DEPARTMENT OF COMMERCE

National Oceanic and Atmospheric Administration

[RTID 0648-XC432]

North Pacific Fishery Management Council; Public Meeting; Cancellation

AGENCY: National Marine Fisheries Service (NMFS), National Oceanic and Atmospheric Administration (NOAA), Commerce.

ACTION: Notice of cancellation of a public meeting.

SUMMARY: The North Pacific Fishery Management Council (Council) Bering Sea Fishery Ecosystem Plan Local Knowledge, Traditional Knowledge, and Subsistence Taskforce (LKTKS) meeting was to be held November 1, 2022 through November 2, 2022, from 9 a.m. to 4 p.m., Alaska Time. See SUPPLEMENTARY INFORMATION.

SUPPLEMENTARY INFORMATION: The meeting notice published on (87 FR 60125). This notice announces that the meeting is cancelled and will be rescheduled and published in the Federal Register at a later date.

Authority: 16 U.S.C. 1801 et seq.

Dated: October 18, 2022.
Rey Israel Marquez,
Acting Deputy Director, Office of Sustainable Fisheries, National Marine Fisheries Service.

[FR Doc. 2022-22991 Filed 10-21-22; 8:45 am]

BILLING CODE 3510-22-P